DEPARTMENT OF ENERGY

Federal Energy Regulatory Commission

[Docket No. RP16-1299-000]

Kinetica Energy Express, LLC; Notice of Technical Conference

The Commission's October 31, 2016 order in the above-captioned proceeding ¹ directed that a technical conference be held to address the effect of the tariff changes proposed by Kinetica Energy Express, LLC in its September 30, 2016 filing in this docket.

¹ Kinetica Energy Express, LLC, 157 FERC ¶ 61,072 (2016).

Take notice that a technical conference will be held on Thursday December 1, 2016 at 10:00 a.m., in a room to be designated at the offices of the Federal Energy Regulatory Commission, 888 First Street NE., Washington, DC 20426.

FERC conferences are accessible under section 508 of the Rehabilitation Act of 1973. For accessibility accommodations please send an email to accessibility@ferc.gov or call toll free (866) 208-3372 (voice) or (202) 502-8659 (TTY), or send a fax to (202) 208-2106 with the required accommodations.

All interested persons and staff are permitted to attend. For further information please contact Omar Bustami at (202) 502-6214 or email Omar Bustami at Omar.Bustami@ferc.gov.

Dated: November 8, 2016.
Kimberly D. Bose,
Secretary.

[FR Doc. 2016-27449 Filed 11-15-16; 8:45 am]

BILLING CODE 6717-01-P